DEPARTMENT OF TRANSPORTATION

Federal Aviation Administration

Public Notice for Waiver of Aeronautical Land-Use Assurance; General Wayne A. Downing Peoria International Airport, Peoria, IL

AGENCY: Federal Aviation Administration (FAA), DOT.

ACTION: Notice.

SUMMARY: The FAA is considering a proposal to change portions of 18 different parcels with a total of 2.778 acres of airport land from aeronautical use to non-aeronautical use and to authorize the sale of airport property located at General Wayne A. Downing Peoria International Airport, Peoria, IL. The aforementioned land is not needed for aeronautical use.

The 2.778 acres of land is in the Northeast section of the airport property and it covers the intersection of Dirksen Parkway and Middle Road. This property does not currently serve an aeronautical purpose. This area of property is currently Right of Way for the airport entrance road, Dirksen Parkway. If the airport receives permission from the FAA to release the property from aeronautical obligations, it intends on transferring this property to the Peoria County for continued use as Right of Way.

DATES: Comments must be received on or before November 13, 2018.

ADDRESSES: Documents are available for review by appointment at the FAA Chicago Airports District Office, Robert Lee, Program Manager, 2300 E Devon Avenue, Des Plaines, Illinois 60018, Telephone: (847) 294-7526/Fax: (847) 294-7046.

Written comments on the Sponsor's request must be delivered or mailed to: Robert Lee, Program Manager, Federal Aviation Administration, Chicago Airports District Office, 2300 E Devon Avenue, Des Plaines, IL 60018, Telephone Number: (847) 294-7526/FAX Number: (847) 294-7046.

FOR FURTHER INFORMATION CONTACT: Robert Lee, Program Manager, Federal Aviation Administration, Chicago Airports District Office, 2300 E Devon Avenue, Des Plaines, IL 60018, Telephone Number: (847) 294-7526/FAX Number: (847) 294-7046.

SUPPLEMENTARY INFORMATION: In accordance with section 47107(h) of Title 49, United States Code, this notice is required to be published in the Federal Register 30 days before modifying the land-use assurance that requires the property to be used for an aeronautical purpose.

The land consists of all or portions from eighteen (18) different parcels. All but two of these parcels were purchased by the airport with FAA participation. The parcels were acquired under grants 3-17-0080-21 and 3-17-0080-10 or without federal participation. The future use of the property is for roadway Right of Way.

The disposition of proceeds from the sale of the airport property will be in accordance with FAA's Policy and Procedures Concerning the Use of Airport Revenue, published in the Federal Register on February 16, 1999 (64 FR 7696).

This notice announces that the FAA is considering the release of the subject airport property at the Wayne A. Downing Peoria International Airport, Peoria, IL from federal land covenants, subject to a reservation for continuing right of flight as well as restrictions on the released property as required in FAA Order 5190.6B section 22.16. Approval does not constitute a commitment by the FAA to financially assist in the disposal of the subject airport property nor a determination of eligibility for grant-in-aid funding from the FAA.

Legal Description

Parcel 17-15-401-047

Part of the southeast quarter of section 15 in township 8 north, range 7 east of the fourth principal meridian in Peoria County, Illinois. Said part being further described as follows:

Commencing at the northwest corner of the southeast quarter of said section 15; thence north 88 degrees 58 minutes 38 seconds east along the north line of the said southeast quarter a distance of 1085.74 feet; thence south 01 degree 01 minute 22 seconds east a distance of 33.00 feet to the point of beginning, said point being on the south right of way line of County Highway D49 (Middle Road); thence north 88 degrees 58 minutes 38 seconds east along the said south right of way line a distance of 792.03 feet to a point on the east line of lot 28 of McCarty Acres; thence south 00 degree 29 minutes 22 seconds east along the said east line of lot 28 a distance of 60.24 feet to point on the proposed south right of way line of County Highway D49 (Dirksen Parkway); thence south 58 degrees 45 minutes 34 seconds west along the proposed south right of way line a distance of 230.39 feet to a point on the east line of lot 25 of said McCarty Acres; thence south 00 degree 29 minutes 22 seconds east along the said east line of lot 25 and proposed south right of way line a distance of 46.04 feet to a point at the beginning of a curve to the left, said curve having a radius of 1080.00 feet and an arc length of 78.14 feet thence on a chord bearing of south 57 degrees 10 minutes 02 seconds west along the said proposed south right of way line a chord distance of 78.12 feet; thence south 85 degrees 10 minutes 24 seconds west along the said proposed south right of way line a distance of 128.86 feet; thence north 40 degrees 28 minutes 11 seconds west a distance of 108.19 feet to a point on the east line of lot 21 of McCarty Acres; thence north 00 degree 29 minutes 22 seconds west along the said east line of lot 21 a distance of 37.19 feet; thence north 55 degrees 21 minutes 36 seconds west a distance of 80.70 feet to a point; thence north 65 degrees 37 minutes 45 seconds west a distance of 218.22 feet to a point on the east line of lot 17 of McCarty Acres; thence north 81 degree 53 minutes 33 seconds west along the said proposed south right of way line a distance of 66.75 feet to the point of beginning, containing 2.524 acres more or less.

Basis of bearings are to the Illinois State Plane Coordinate system, west zone being the north line of the southeast quarter of section 15 at north 88 degrees 58 minutes 38 seconds east.

Parcel 17-15-401-030

Parcel 17-15-426-001

Parcel 17-15-426-002

Parcel 17-15-426-003

Parcel 17-15-426-004

Parcel 17-15-426-005

Part of lot 29 and lot 30 of McCarty Acres being a part of the southeast quarter of section 15 in township 8 north, range 7 east of the fourth principal meridian in Peoria County, Illinois. Said part being further described as follows:

Commencing at the northwest corner of the southeast quarter of said section 15; thence north 88 degrees 58 minutes 38 seconds east along the north line of the said southeast quarter a distance of 1877.77 feet; thence south 01 degree 01 minute 22 seconds east a distance of 33.00 feet to the point of beginning, said point being on the south right of way line of County Highway D49 (Middle Road); thence north 88 degrees 58 minutes 38 seconds east along the said south right of way line and parallel with the said north line of the southeast quarter of section 15 a distance of 542.72 feet to a point at the beginning of a curve to the right, said curve having a radius of 150.00 feet and an arc length of 55.08 feet; thence on a chord bearing of south 80 degrees 30 minutes 11 seconds east a chord distance of 54.77 feet to a point on the proposed south right of way line of County Highway D49 (Middle Road); thence south 88 degrees 58 minutes 38 seconds west along the said proposed south right of way line and parallel with the north line of the southeast quarter of section 15 a distance of 352.62 feet; thence south 81 degrees 50 minutes 33 seconds west along the said proposed south right of way line a distance of 90.69 feet; thence south 74 degrees 49 minutes 17 seconds west along the said proposed south right of way line a distance of 159.37 feet to a point on the west line of said lot 29; thence north 00 degrees 29 minutes 22 seconds west along the said west line a distance of 60.24 feet to the point of beginning, containing 0.254 acres more or less.

Basis of bearings are to the Illinois State Plane Coordinate System, west zone being the north line of the southeast quarter of section 15 at north 88 degrees 58 minutes 38 seconds east.

Issued in Des Plaines, IL on Sept. 27, 2018.
Deb Bartell,
Manager, Chicago Airports District Office, Great Lakes Region, FAA.

[FR Doc. 2018-22197 Filed 10-10-18; 8:45 am]

BILLING CODE 4910-13-P